DEPARTMENT OF COMMERCE

National Oceanic and Atmospheric Administration

Commission On Ocean Policy Inaugural Public Meeting

AGENCY: National Ocean Service, National Oceanic and Atmospheric Administration, DOC, on behalf of Council on Environmental Quality and the Commission on Ocean Policy.

ACTION: Notice of Inaugural Public Meeting.

SUMMARY: On behalf of the recently appointed Commission on Ocean Policy, the National Oceanic and Atmospheric Administration, U.S. Department of Commerce, is hereby announcing the Commission's first public meeting. The first meeting will be on Monday and Tuesday, September 17 and 18, 2001. The meeting will begin at 10 a.m. on September 17, and conclude at 5 p.m. The Commission will reconvene at 9 a.m. on September 18 and meet until 5p.m. The meeting will be held in the U.S. Department of Commerce auditorium, Herbert C. Hoover Building, 14th Street and Constitution Ave., NW., Washington, DC.

The Commission on Ocean Policy is holding this public meeting pursuant to requirements under the Oceans Act of 2000 (Public Law 106-256, Section 3(e)(1)(E)). This is the first meeting of the Commission on Ocean Policy. The agenda will include welcoming remarks, an overview of the Oceans Act, discussion of the Commission's responsibilities, and organizing the efforts of the Commission. Further information is available at the following preliminary Web site, http://oceancommission.gov, which will be available on or before Friday, September 7, 2001.

The National Oceanic and Atmospheric Administration, U.S. Department of Commerce, is providing this notice at the request of the Council on Environmental Quality and under legislation providing FY1998 appropriations for NOAA, H.R. 2267 (Public Law 105-119), and the accompanying conference report (105-405). The report specifies that funding has been appropriated to NOAA's National Ocean Service “to provide support for the Commission on Ocean Policy, a commission which will examine both Federal and non-Federal ocean and coastal activities, and report to the Congress and the President.”

FOR FURTHER INFORMATION CONTACT: Glen Boledovich, National Oceanic and Atmospheric Administration, 1305 East-West Highway, SSMC 4, Room 13313, Silver Spring, MD 20910, 301-713-3070 ext. 193, Glenn.Boledovich@noaa.gov.

Jamison S. Hawkins,
Deputy Assistant Administrator for Ocean Services and Coastal Zone Management.

[FR Doc. 01-20877 Filed 8-17-01; 8:45 am]

BILLING CODE 3510-JE-M